DEPARTMENT OF THE INTERIOR

Fish and Wildlife Service

[FWS-R5-R-2011-N221; BAC-4311-K9-S3]

Massasoit National Wildlife Refuge, Plymouth, MA

AGENCY: Fish and Wildlife Service, Interior.

ACTION: Notice of intent to prepare a comprehensive conservation plan and environmental assessment; request for comments.

SUMMARY: We, the U.S. Fish and Wildlife Service (Service), intend to prepare a comprehensive conservation plan (CCP) and environmental assessment (EA) for Massasoit National Wildlife Refuge (the refuge, NWR) in Plymouth, Massachusetts. We provide this notice in compliance with our CCP policy to advise other Federal and State agencies, Tribes, and the public of our intention to conduct detailed planning on this refuge.

DATES: We will announce opportunities for public input throughout the CCP process in the Federal Register, local news media, and on our refuge planning Web site at http://www.fws.gov/northeast/planning/Eastern%20Mass%203/ccphome.html.

ADDRESSES: Send your comments or requests for more information by any of the following methods.

Email: northeastplanning@fws.gov. Include “Massasoit CCP” in the subject line of the message.

Fax: Attn: Carl Melberg, (978) 443-2898.

U.S. Mail: Eastern Massachusetts National Wildlife Refuge Complex, U.S. Fish and Wildlife Service, 73 Weir Hill Road, Sudbury, MA 01776.

In-Person Drop-off: You may drop off comments during regular business hours at the address above.

FOR FURTHER INFORMATION CONTACT: Carl Melberg, Planning Team Leader, (978) 443-4661 extension 32 (telephone), or Libby Herland, Project Leader, (978) 443-4661 extension 11 (telephone), or fw5rw_emnrw@fws.gov (email).

SUPPLEMENTARY INFORMATION:

Introduction

With this notice, we initiate our process for developing a CCP for Massasoit NWR, in Plymouth, Massachusetts. This notice complies with our CCP policy to advise other Federal and State agencies, Tribes, and the public of our intention to conduct detailed planning on this refuge.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System (NWRS), consistent with sound principles of fish and wildlife management and conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Each unit of the NWRS was established for specific purposes. We use these purposes as the foundation for developing and prioritizing the management goals and objectives for each refuge within the NWRS, and to determine how the public can use each refuge. The planning process is a way for us and the public to evaluate management goals and objectives that will ensure the best possible approach to wildlife, plant, and habitat conservation, while providing for wildlife-dependent recreation opportunities that are compatible with each refuge's establishing purposes and the mission of the NWRS.

Our CCP process provides participation opportunities for Tribal, State, and local governments, agencies, organizations, and the public. Throughout the process, we will have formal comment periods and hold public meetings to gather comments, issues, concerns, ideas, and suggestions for the future management of Massasoit NWR. You may also send comments anytime during the planning process by mail, email, or fax (see ADDRESSES).

We will conduct the environmental review of this project and develop an EA in accordance with the requirements of the National Environmental Policy Act of 1969, as amended (NEPA) (42 U.S.C. 4321 et seq.), NEPA regulations (40 CFR parts 1500-1508), other appropriate Federal laws and regulations, and our policies and procedures for compliance with those laws and regulations.

Massasoit National Wildlife Refuge

Massasoit NWR is one of eight refuges that comprise the Eastern Massachusetts NWR Complex. Massasoit NWR was established in 1983 to conserve the federally endangered northern red-bellied cooter (Pseudemys rubriventris bangsi), as well as other native wildlife and plant species. The 209-acre refuge is located in Plymouth, Massachusetts, and is part of a larger 3,269-acre area designated as critical habitat for the cooter. Research, monitoring, and recovery efforts for this turtle take place on the refuge. To protect the turtle from harassment, harm, and poaching, the refuge is closed to public access.

Scoping: Preliminary Issues, Concerns, and Opportunities

We have identified several preliminary issues, concerns, and opportunities that we intend to address in more detail in the CCP. These include:

• The refuge's closure to public use;

• The refuge's prescribed burning program;

• The opportunity to protect the entire extant population of the northern red-bellied cooter in Plymouth County, as described in the species' recovery plan;

• The opportunity to provide and manage New England cottontail habitat;

• The opportunity to evaluate a possible expansion of the refuge's approved boundary;

• The impacts of climate change on refuge resources;

• The potential to improve community relations and increase outreach; and

• The opportunity to increase local awareness of the refuge and the NWRS.

We expect that during public scoping, members of the public, our conservation partners, Federal and State agencies, and Tribal governments may identify additional issues.

Public Meetings

During the planning process, we will hold public meetings for the public to provide comments, issues, concerns, ideas, and suggestions about refuge management. When we schedule formal comment periods and public meeting(s), we will announce them in the Federal Register, local news media, and on our refuge planning Web site at http://www.fws.gov/northeast/planning/Eastern%20Mass%203/ccphome.html. You can also obtain the schedule from the planning team leader or project leader (see ADDRESSES).

Public Availability of Comments

Before including your address, phone number, email address, or other personal identifying information in your comment, you should be aware that your entire comment—including your personal identifying information—may be made publicly available at any time. While you can ask us in your comment to withhold your personal identifying information from public review, we cannot guarantee that we will be able to do so.

Dated: December 14, 2011.
Henry Chang,
Acting Regional Director, Northeast Region, U.S. Fish and Wildlife Service, Hadley, Massachusetts.

[FR Doc. 2012-297 Filed 1-9-12; 8:45 am]

BILLING CODE P